DEPARTMENT OF EDUCATION

34 CFR Parts 612 and 686

RIN 1840-AD07

[Docket ID ED-2014-OPE-0057]

Teacher Preparation Issues

AGENCY: Office of Postsecondary Education, Department of Education.

ACTION: Supplemental notice of proposed rulemaking; re-opening of the comment period for specific issues.

SUMMARY: On December 3, 2014, the Department published a notice of proposed rulemaking (NPRM) to implement requirements for the teacher preparation program accountability system under title II of the Higher Education Act of 1965, as amended (HEA), and also to amend the regulations governing the Teacher Education Assistance for College and Higher Education (TEACH) Grant Program under title IV of the HEA. The comment period closed on February 2, 2015.

The Department received over 4,800 comments in response to the NPRM. Some commenters requested clarification regarding how the proposed State reporting requirements would affect teacher preparation programs provided through distance education and TEACH Grant eligibility for students enrolled in teacher preparation programs provided through distance education. In response to these comments, the Department is considering revising the proposed regulations to clarify these areas.

This supplemental notice of proposed rulemaking (supplemental NPRM) therefore reopens the public comment period on the Teacher Preparation Issues proposed rule for 30 days solely to seek comment on these specific issues. The Department is not soliciting comments on any other issues related to the December 3, 2014, NPRM, and the Department will not consider public comments that address issues other than those specific to reporting by States on teacher preparation programs provided through distance education and TEACH Grant eligibility requirements for teacher preparation programs provided through distance education.

DATES: The comment period for a specific topic in the NPRM published on December 3, 2014 (79 FR 71820), is reopened. The due date for comments discussed in this supplemental NPRM is May 2, 2016.

ADDRESSES: Submit your comments through the Federal eRulemaking Portal or via postal mail, commercial delivery, or hand delivery. We will not accept comments by fax or by email. To ensure that we do not receive duplicate copies, please submit your comments only one time. In addition, please include the Docket ID at the top of your comments.

• Federal eRulemaking Portal: Go to www.regulations.gov to submit your comments electronically. Information on using Regulations.gov, including instructions for accessing agency documents, submitting comments, and viewing the docket, is available on the site under “How to use Regulations.gov.”

• Postal Mail, Commercial Delivery, or Hand Delivery: If you mail or deliver your comments about these proposed regulations, address them to Sophia McArdle, Ph.D., U.S. Department of Education, 400 Maryland Avenue SW., room 6W256, Washington, DC 20202.

Privacy Note: The Department's policy is to make all comments received from members of the public available for public viewing in their entirety on the Federal eRulemaking Portal at www.regulations.gov. Therefore, commenters should be careful to include in their comments only information that they wish to make publicly available.

FOR FURTHER INFORMATION CONTACT: Sophia McArdle, Ph.D., U.S. Department of Education, 400 Maryland Avenue SW., room 6W256, Washington, DC 20202. Telephone: (202) 453-6318 or by email: sophia.mcardle@ed.gov.

If you use a telecommunications device for the deaf (TDD) or a text telephone (TTY), call the Federal Relay Service (FRS), toll free, at 1-800-877-8339.

SUPPLEMENTARY INFORMATION:

Background

On December 3, 2014, the Department published an NPRM in the Federal Register (79 FR 71820) proposing requirements for the teacher preparation program accountability system under title II of the HEA (title II reporting system) that would result in the development and distribution of more meaningful data on teacher preparation program quality. That NPRM also included amendments to the regulations governing the TEACH Grant Program under title IV of the HEA that would condition TEACH Grant program funding on teacher preparation program quality, as well as update, clarify, and improve the current regulations to align them with the title II reporting system. The Department received over 4,800 comments in response to the proposed regulations.

The NPRM contained proposed requirements for State reporting on teacher preparation programs provided through distance education under the title II reporting system, as well as proposed regulations governing TEACH Grant eligibility for teacher preparation programs provided through distance education. Some commenters expressed concern that the proposed regulations did not provide enough clarity with respect to the requirements for teacher preparation programs provided through distance education. These commenters expressed concern about two specific areas in the proposed regulations related to teacher preparation programs offered through distance education.

The first area of concern was State reporting on teacher preparation programs provided through distance education. In the NPRM, we included requirements for States to report on certain metrics (student learning outcomes, employment outcomes, survey outcomes, and program characteristics) for teacher preparation programs in the State, including distance education programs. The NPRM proposed that the State reporting requirements would apply to all teacher preparation programs, including those offered through distance education. Our intent was to ensure that the State reporting requirements were consistent across teacher preparation programs, including teacher preparation programs provided through distance education. Commenters questioned which State would be responsible for reporting on, and determining the performance level for, teacher preparation programs provided through distance education.

Commenters stated that the proposed requirement was unclear. They specifically asked for clarification on whether only one State would be responsible for reporting on, and determining the performance level of, teacher preparation programs offered through distance education, or whether any State in which a teacher preparation program provided through distance education that enrolled students would do so. For example, according to some commenters, the proposed regulations could be interpreted as requiring a State to report: (a) Only if students enrolled in that program resided or become certified in the State; or (b) only if the teacher preparation program provided through distance education is physically headquartered in the State. The commenters asked us to clarify which of these alternatives would apply. Commenters also asked whether States would have to report on teacher preparation programs provided through distance education if those programs generated fewer than 25 teachers in a given State.

The second area of concern expressed by some commenters relates to TEACH Grant eligibility for students enrolling in teacher preparation programs offered through distance education. Commenters noted that there are teacher preparation programs offered through distance education that are available in multiple States, and, therefore, the same program could be rated as effective by one State and low-performing or at-risk of being low- performing by another. Commenters stated that the proposed regulations were unclear regarding both how TEACH Grant eligibility would be determined for students enrolled in a teacher preparation program offered through distance education, and, specifically, in instances where different States provide conflicting ratings. Commenters asked the Department to clarify these points in the regulations.

Provisions Under Consideration

In light of these comments, we are seeking comment on the proposals in this supplemental NPRM that would amend the proposed regulations. In particular, the Department seeks comments and recommendations on ways to improve, and alternatives to, these proposed amendments to the proposed regulations included in this supplemental NPRM.

In this regard, we note that while our NPRM proposed to incorporate the definition of “distance education” in 34 CFR 600.2, we know that some teacher preparation programs combine aspects of distance education with aspects of preparation that occur in a “brick and mortar” setting. While we solicit comments and recommendations on any aspect of this NPRM, we specifically solicit comments and recommendations on—

(1) Under what circumstances, for purposes of both reporting and determining the teacher preparation program's level of overall performance, a State should use procedures applicable to teacher education programs offered through distance education and when it should use procedures for teacher preparation programs provided at brick and mortar institutions, and

(2) For a single program, if one State uses procedures applicable to teacher preparation programs offered through distance education, and another State uses procedures for teacher preparation programs provided at brick and mortar, what are the implications, especially for TEACH Eligibility, and how these inconsistencies should be addressed.

Section 612.4—What are the regulatory reporting requirements for the State report card?

In the December 2014 NPRM, proposed § 612.4 requires that each State report to the Secretary, using a State report card (SRC) that is prescribed by the Secretary, on the quality of all approved teacher preparation programs in the State (both traditional teacher preparation programs and alternative routes to State certification or licensure programs), including distance education programs. We also proposed that this reporting would occur regardless of whether or not those programs enroll students receiving Federal assistance under the HEA. As previously noted, although the Department intended that our proposed State reporting requirements apply to all teacher preparation programs, including those provided through distance education, we received comments asking for clarification on how and when States would need to report on teacher preparation programs provided through distance education.

To clarify how States must report on the quality of all teacher preparation programs provided through distance education in the State, we are proposing to amend the proposed regulations by striking the words “including distance education programs” from proposed § 612.4(a)(1)(1); redesignating proposed § 612.4(a)(1)(ii) as proposed § 612.4(a)(1)(iii); and adding new proposed § 612.4(a)(1)(ii). This new provision would require States to report on the quality of all teacher preparation programs provided through distance education in the State in ways that meet the reporting and aggregation requirements proposed in § 612.4(b)(4); however, rather than determine that the program produces 25 new teachers as set forth in our proposed § 612.4(b)(4), for teacher preparation programs provided through distance education, a State would determine whether there are at least 25 new teachers from that program who become certified in the State in a given title II reporting year.

Under § 612.4(b)(4) as proposed in the December 2014 NPRM, except for certain programs subject to proposed § 612.4(b)(4)(ii)(D) or (E), each State would ensure that all of its teacher preparation programs are represented in the SRC. Consistent with the NPRM, States would report on a teacher preparation program provided through distance education individually if the program produced at least 25 new teachers in the State, and would report through different aggregation methods if it produced fewer than 25 new teachers in the State.

In contrast, under new proposed § 612.4(a)(1)(ii), which applies to teacher preparation programs provided through distance education, consistent with the reporting threshold of 25 or more new teachers for reporting in previously proposed § 612.4(b)(4)(1), each State would be required to report annually and separately on the performance of each teacher preparation program provided through distance education if at least 25 graduates of that program become certified in the State in a title II reporting year. For teacher preparation programs provided through distance education, if fewer than 25 graduates of that program become certified in the State in a given title II reporting year, reporting would be accomplished consistent with the methods of reporting addressed in proposed § 612.4(b)(4)(ii). These proposed regulations would also permit a State, at its discretion, to establish a program size threshold lower than 25.

Thus, for a distance education program that produces fewer than 25 new teachers whom the State has certified to teach in a given title II reporting year, the State would use the same procedures for data aggregation in proposed § 612.4(a)(1)(ii)(A)-(C) as the State would use for all other small teacher preparation programs. Under proposed § 612.4(a)(1)(ii)(D) and (E), the State would be permitted to exclude from reporting distance education programs that are particularly small, for which aggregation procedures cannot be applied, or where reporting on those programs would be inconsistent with State or Federal privacy or confidentiality laws and regulations.

We are now proposing this regulation because of the inherent differences between “brick and mortar” teacher preparation programs and teacher preparation programs provided through distance education. Unlike teacher preparation programs physically located in a State that produce new teachers whom a State may easily confirm as completers of that program, a teacher preparation program provided through distance education generally does not have a physical location in the State, and its students could be participating in the program from anywhere. Any State would have great difficulty identifying and tracking new teachers the distance education program produces, much less new teachers it produces who plan to teach in the State.

Because we understand that States track individuals whom they certify as teachers in the State and collect what teacher preparation programs they have completed, it seems reasonable to apply the same State reporting requirements for distance education programs as we have proposed for “brick and mortar” programs that are physically located in the State with the one modification described above. That is, instead of the State reporting on the program based on the number of new teachers it produced in a given title II reporting year, for distance education programs the State would report using the procedures in proposed § 612.4(b)(4) based on whether the distance education program produced at least 25 teachers or fewer than 25 whom the State had certified to teach in the State in the title II reporting year. Where these teachers resided when they took the program would not matter.

Section 686.2 Definitions

High-Quality Teacher Preparation Program Provided Through Distance Education

For purposes of TEACH Grant eligibility, in the NPRM we proposed that, to be eligible for a TEACH Grant, an otherwise eligible student must, in part, be enrolled in a high-quality teacher preparation program. As previously noted, we received comments asking us to clarify how TEACH Grant eligibility would be determined for a student enrolled in a teacher preparation program offered through distance education, and specifically how TEACH Grant eligibility would be determined for a student if one State rates a teacher preparation program offered through distance education as ineffective and another State rates it as effective.

To clarify how TEACH Grant eligibility would be determined for a teacher preparation program provided through distance education, in this supplemental NPRM we are proposing to add a definition for the term “high-quality teacher preparation program provided through distance education.” We would also make corresponding changes to the definitions of TEACH Grant-eligible institution and TEACH Grant-eligible program.

The proposed definition of a high-quality teacher preparation program in the December 2014 NPRM links a State's classification of a teacher preparation program as being of effective or exceptional to an institution physically located in the State; this classification is thus made on a State-by-State basis. We believe this proposed definition works well for “brick and mortar” teacher preparation programs offered by an institution physically located in a State, but not for teacher preparation programs provided through distance education as individuals may take those programs anywhere.

Furthermore, the types of teacher preparation programs provided through distance education that are offered by institutions vary. Some teacher preparation programs provided through distance education are State-specific, meaning that they are designed to prepare individuals to serve in a specific State, (e.g., an Elementary Education program directed at teachers in California), while others are offered in multiple States and are not tailored to any specific State. We believe that, just as with “brick and mortar” teacher preparation programs, it is important to establish a feedback loop between teacher preparation programs provided through distance education and States, schools, and the public to inform the State that certifies its graduates as new teachers, the school districts in that State that hire them, and the general public. Additionally, all States should be able to assess, and hold accountable, the teacher preparation programs from which their teachers graduated according to their own standards and expectations. Institutions providing teacher preparation programs through distance education in multiple States should have an incentive to adapt those programs to be State-specific so that they can be responsive to the needs of that State and receive ratings that reflect performance only in that specific State.

Thus, the new proposed definition for a high-quality teacher preparation program provided through distance education would require that no single State has classified the program as low-performing or at-risk of being low- performing.

More specifically, we are proposing to define a high-quality teacher preparation program provided through distance education as a teacher preparation program provided through distance education that: (a) For TEACH Grant program purposes in the 2021-2022 title IV award year, is not classified by any State as low-performing or at-risk of being low performing under 34 CFR 612.4(b) in either or both the April 2020 and/or April 2021 SRCs; and (b) for TEACH Grant program purposes in the 2022-2023 title IV award year and subsequent award years, is not classified by any State as low-performing or at-risk of being low-performing under 34 CFR 612.4(b) for two out of the previous three years, with the earliest year being the April 2020 SRC. Taking into consideration that we have not yet published final regulations, we are proposing to move the implementation dates for these proposed regulations back by one year to account for the delay.

Thus, as with students enrolled in “brick and mortar” teacher preparation programs for the 2021-2022 title IV award year, no student enrolled in a teacher preparation program provided through distance education would be able to receive a TEACH Grant, regardless of their State of residence, if the program is classified by any State as low-performing or at-risk of being low-performing under 34 CFR 612.4(b) in either or both the April 2020 and/or April 2021 SRC. For TEACH Grant program purposes in the 2022-2023 title IV award year, students in the distance education program would not be able to receive TEACH Grants in any State if it is classified by any State as low-performing or at-risk of being low-performing under 34 CFR 612.4(b), in any two of the April 2020, 2021, or 2022 SRCs.

In other words, if one State classified a teacher preparation program provided through distance education as low-performing or at-risk of being low-performing in April 2020 and a different State classified the program as low-performing or at-risk in April of 2021, no student in any State who participates in that same distance education program would be able to receive a TEACH Grant in the 2021-2022 title IV award year because the program had been classified as low-performing or at-risk in both years by at least one State. Similarly, beginning with the April 2020 State Report Card, for the 2022-2023 title IV award year and subsequent award years, if one State classified a teacher preparation program provided through distance education as low-performing or at-risk for one year under 34 CFR 612.4(b), and another State classified the same distance education program as low-performing or at-risk of being low-performing in at least one of the next two years, no student in any State enrolled in that distance education program would be able to receive a TEACH Grant in the 2022-2023 title IV HEA award year.

We are confident that a State that has granted teacher certification to graduates of a teacher preparation program provided through distance education, and then found the program to be low-performing or at-risk of being low-performing, will want to work proactively with the program to improve its performance and to ensure that, when next evaluated, the State is able to report an acceptable level of performance. Moreover, even if only one State were to classify a teacher preparation program provided through distance education as low-performing or at-risk, this fact should raise great concern. Given that prospective teachers in teacher preparation programs provided through distance education may be seeking teaching positions in any of a number of States, they should be aware that one or more States have deemed that certain teacher preparation programs provided through distance education were classified as less than effective. We strongly believe that the States that rated the teacher preparation program provided through distance education as effective will want to work with the program in question to ensure that the program would maintain its effective or better classification, and the States that found the performance of the program to be less than effective would want to work with the program to ensure that the poor performance rating does not recur. Finally, we believe that this proposed provision will help ensure that eligibility to award TEACH grants is limited to IHEs that the Secretary determines provide high-quality teacher preparation, pursuant to HEA section 420L(1)(A).

Executive Orders 12866 and 13563

Regulatory Impact Analysis (RIA)

Discussion of Costs, Benefits, and Transfers

The Department has analyzed the costs of complying with the proposed regulations in this supplemental NPRM. Due to uncertainty about the total number of distance education programs in the country that would be subject to reporting under these proposed regulations, the current capacity of States in some relevant areas, and the considerable discretion the regulations would provide States (e.g., the flexibility States would have in determining who conducts the teacher and employer surveys), we cannot evaluate the costs of implementing the regulations with absolute precision. However, based on the assumptions discussed below, we estimate that these proposed regulations would have a total annualized cost of approximately $234 thousand over ten years above those costs calculated for the remainder of the proposed regulations in the December 3, 2014 NPRM. We note that the analysis of costs, benefits, and transfers that follows uses the same categories of analysis as those included in the NPRM. For example, in the NPRM, the Department estimated cost and burden associated with the SRC based on a number of categories including, but not limited to, completing the SRC, posting the SRC on the State's Web site, and ensuring meaningful differentiation of programs. In this analysis, we use the same categories, though our estimates for each category have been revised in many instances to reflect public comment and current information and thinking. For example, we have updated the applicable wage rates to reflect the most recent data available from the Bureau of Labor Statistics and have increased the estimated time it would take to post the SRC to the State Web site from 0.25 hours to 0.5 hours. In this supplemental NPRM, the Department does not discuss or provide our responses to public comment on the estimates in our original NPRM but simply uses the revised estimated burden hours for our calculations. We will discuss public comment to all estimates in both NPRMs in our notice of final rulemaking. Additionally, we note that our estimates also have been revised to reflect updated wage rate data.¹

¹ Unless otherwise specified, all hourly wage estimates for particular occupation categories were taken from the May 2014 National Occupational Employment and Wage Estimates for Federal, State, and local government published by the Department of Labor's Bureau of Labor Statistics and available online at www.bls.gov/oes/current/999001.htm.

The following is a detailed analysis of the estimated costs of implementing the specific requirements, including the costs of complying with paperwork-related requirements, followed by a discussion of the anticipated benefits. The burden hours of implementing specific paperwork-related requirements are also shown in the tables in the Paperwork Reduction Act section of this supplemental NPRM.

Number of Distance Education Programs

As noted elsewhere in this supplemental NPRM, these proposed regulations clarify States' responsibilities regarding reporting on teacher preparation programs offered through distance education. Reporting and accountability for such programs were not directly discussed in the original NPRM, and, therefore, were not explicitly included in our original cost estimates. However, upon review of prior State submissions under title II of the HEA, it is clear that at least some States have been reporting on distance education programs, though it is unclear to what extent such reporting was systematic either within or across States. As such, we believe that there will be an increase in the costs and burdens associated with reporting and accountability for such programs relative to our initial estimates.

In order to quantify the extent of these costs and burdens, the Department must first estimate the total number of teacher preparation programs provided through distance education on which reporting will be required. However, this is not a simple task. As noted above, States have not been systematically reporting on such programs, and it is possible that, under the proposed regulations, multiple States will be required to report on the same program (if, for example, a single distance education program produces 25 new teachers who become certified in each of multiple States). To estimate the total number of distance education teacher preparation programs nationwide, we used publicly available data from the Department's Integrated Postsecondary Education Data System (IPEDS).

In the IPEDS Completions survey component, IHEs identify programs of study at their institutions using Classification of Instructional Programs (CIP) codes that correspond to the particular subject area or focus of coursework. For each six-digit CIP code, the first two digits reference a broad area of study (e.g., CIP codes beginning “13” are all education-focused programs). The next two digits of a CIP code reference a more specific, but still somewhat broad category of study within the broader subject area (e.g., CIP codes beginning with “13.12” are all “Teacher Education and Professional Development, Specific Levels and Methods” programs). The final two digits of a six-digit CIP code reference the specific course of study that is being undertaken (e.g., the CIP code “13.1202” references a course of study in “Elementary Education and Teaching”). To be clear, these CIP codes do not directly align to a “teacher preparation program” as defined in the proposed regulations. However, we believe that the use of these CIP codes approximates those teacher preparation programs as close as is possible using available data in IPEDS. We note that the use of CIP codes will result in collapsing multiple teacher preparation programs (as defined in the proposed regulations) that focus on the same area into a single “program” as we are able to capture it through IPEDS. For example, if an IHE has both traditional and alternative route teacher preparation programs in Elementary Education and Teaching, both teacher preparation programs (as defined in the proposed regulation) will be collapsed into one reporting instance under CIP code 13.1202. As such, it is possible that we may end up underestimating the total number of programs or overestimating the size of individual programs. However, we believe that, because we are using these data to identify distance education programs, we are unlikely to have major issues underestimating the number of such programs due to the aggregation within CIP codes, as we believe it is highly unlikely that an individual IHE would have multiple teacher preparation programs (as defined in the proposed regulations) offered through distance education within the same CIP code (e.g., an IHE is unlikely to have two distance education teacher preparation programs in Elementary Education and Teaching leading to a Master's degree). Additionally, we believe that the use of other data points within the IPEDS system can help mitigate any issues related to the overestimate of the number of students in each program.

We first identified education programs nationwide that corresponded to CIP codes (either four or six digits) reported to the Department in the most recent title II reporting period. We then used additional information available in IPEDS to determine whether each of these programs were offered through distance education, the total number of program completers with the specific CIP code in the past year, and their award level (bachelors, Masters, etc.). For purposes of our final analysis, we only included awards of a Bachelor's degree, post-baccalaureate certificate, Master's degree, or post-Master's certificate. This was based on our belief that programs offering other types of academic awards (e.g., Associate's degrees and doctorates) were unlikely to be programs leading to an initial teacher certification or licensure. Using this procedure, we identified 18,196 programs in IPEDS, where a program is a unique combination of institution, six-digit CIP code, and award level.² Of these 18,196 programs, 2,158 had a distance education component. This sub-set of distance education programs provided our base dataset for this analysis.

² U.S. Department of Education, National Center for Education Statistics. Integrated Postsecondary Education Data System (IPEDS). Completions component (2013 final data).

As noted elsewhere in this supplemental NPRM, States are required to report in their SRCs on all programs provided through distance education that produce teachers to whom the State has granted State certification; consistent with proposed § 612.4(b)(4), how a State reports depends on whether or not the State certifies at least 25 or more new teachers in any given title II reporting year. However, the IPEDS dataset does not provide the specific number of students in each program who completed the program via distance education, only the total number of completers and whether or not each program is offered via distance education. However, there are several ways to estimate the number of individuals who completed these programs through distance education.³

³ We focus on distance education program completers because we cannot use these IPEDS data (or any other data readily available to the Department) to determine the number of individuals (by program) who ultimately became certified new teachers. As such, and because we know that not all program completers ultimately become certified new teachers, our approach will likely generate an over-estimate of the actual number of new teachers and therefore of the number of programs that meet the minimum size requirements.

One way of estimating the number of individuals who complete teacher preparation programs offered through distance education is to assume that all individuals who complete a program that has a distance education component did so using the distance education option. This would, of course, provide the highest estimate for the total number of distance education students. However, it would fail to account for programs (unique CIP code/degree level/institution combinations) that are offered both on-site and through distance education and offer only a single degree (e.g., a post-baccalaureate certificate program that can be taken online or in person, with half of graduates using each option). As such, we believe this methodology would result in an overestimate of the actual number of new distance education programs on which reporting would be required, particularly given the low level of distance education enrollment across institutions in this analytical sample (over 45 percent of institutions had a distance education enrollment rate of less than 10 percent).

IPEDS does offer data on the total number of individuals enrolled in programs through distance education at the institution level, but does not do so at the program (CIP code) level. However, as an alternative to the first methodology, we could use the institution-wide distance education rate as a proxy for the percentage of students in the teacher preparation program enrolled via distance education (i.e., if 12 percent of an institution's students are enrolled in distance education, we would assume that 12 percent of the students in the teacher preparation program are also enrolled via distance education). While this approach would account for programs offered in multiple modalities (i.e., CIP codes that have aggregated teacher preparation programs, as defined in the proposed regulations, that are offered via distance education with those offered in person), such an estimate may or may not be reasonable depending on whether the enrollment patterns of the specific teacher preparation program mirror the enrollment patterns of the institution as a whole. If a particular teacher preparation degree program at College A (for instance, a Master's degree in Secondary Education and Teaching) were only offered via distance education while the majority of students enrolled in College A were not enrolled via distance education, this methodology would under-estimate the size of the teacher preparation program in College A. However, while we believe this methodology may result in over- or under-estimates for individual programs, when aggregated across all programs, these individual errors will likely cancel each other out.⁴

⁴ We note that our estimates also assume that the percentage of distance education enrollment is also the same as the percentage of students completing programs via distance education. To the extent that distance education enrollees are more or less likely to complete their program of study, this assumption will result in an under- or over-estimate of the number of distance education program completers.

Despite the improvements that an enrollment rate for distance education programs may make to our estimates, the requirements on reporting of distance education programs apply, under existing regulations, and these proposed regulations, to all teacher preparation programs in the State. As such, we assume that States would have already reported on such programs operating in their State in the current Title II data collection. In that instance, costs associated with these programs would have been included in the regulatory impact analysis in the December 3, 2014 NPRM. For example, if 70 percent of students in a teacher preparation program in Ohio are enrolled in a distance education program, and all of the program graduates become newly certified teachers in Ohio, the status of those recent graduates as distance education graduates would not result in any additional cost or burden on Ohio or other States because Ohio would have already been responsible for reporting on the program under the existing Title II data collection, and therefore costs related to implementing our proposed regulations are already a part of the cost estimates in our December 2014 NPRM (which used the current number of programs reported under title II of the HEA as a baseline).

Therefore, we believe that the best approach to estimating the costs of the regulations proposed in this supplemental NPRM is to use the number of students enrolled via distance education who, during the time they are enrolled, are located in a State or jurisdiction other than the one in which the institution is located.⁵ In this instance, the State or States in which these “out of State” individuals are located (and, we will assume, the State(s) in which they will ultimately become new teachers), is the one with the reporting burden generated by the proposed regulations. Thus, in addition to the two methodologies described above, as another approach, we can also use the percentage of students enrolled via distance education outside of the State in which the institution is located as a proxy for the percentage of students who will become new teachers in another State. While we believe that this is the best estimation methodology of the three, for transparency purposes, in Table 1 below, we provide estimates using all three methodologies.

⁵ U.S. Department of Education, National Center for Education Statistics. Integrated Postsecondary Education Data System (IPEDS). Fall enrollment survey component (2014 provisional data).

Once we have developed an estimate of the number of program completers for each program (unique CIP code/degree/institution combination), we must calculate the total number of programs on which States will be reporting. As provided in proposed § 612.4(b)(4), a State would be required to report on any teacher preparation program that produces 25 or more new teachers in a given reporting year and smaller programs, subject to a number of aggregation methods. While we do not have data on the number of new teachers produced by each of the distance teacher preparation programs in our database for this analysis, as stated above, we will assume that all program completers become new teachers in the State where they were located when completing the course. This will result in an overestimate of the reporting burden on States, as not all individuals completing such distance education programs will become new teachers. Using our dataset, we determined that 710 programs nationally had at least 25 program completers. Using the out-of-State distance education estimate as described above, there would only be 109 programs that required annual reporting beyond those in our initial estimates (which included 26,589 programs ⁶).

⁶ The estimates included in our original NPRM used 25,000 programs. However, since that time, more recent data are available from Title II reporting, which shows that there were 26,589 programs during the 2012-2013 academic year, spread across 2,171 providers.

In addition to having States report on those programs that produce 25 or more new teachers in a given reporting year, proposed § 612.4(b)(4)(ii) provides options for aggregating smaller programs that produce fewer teachers each year. Beginning with § 612.4(b)(4)(ii)(A), one option a State has is to aggregate data across programs operated by the same teacher preparation entity that are similar to or broader than the program in content. In order to estimate the number of additional programs that this provision would add to the calculations, we aggregated data for programs with fewer than 25 program completers with other programs at the same institution with the same four-digit CIP code. This procedure not only collapsed programs across award levels (e.g., counting Bachelor's degrees and post-baccalaureate certificates together), but also instructional programs that were largely similar to one another (e.g., counting “Special Education and Teaching, General” and “Special Education and Teaching, Other” together). In doing so, we identified an additional 25 programs that could meet the program size threshold when assuming all program completers were distance education students (150 programs when not using any distance education proxies).

Under proposed § 612.4(b)(4)(ii)(B), States could alternatively aggregate small programs across reporting years (not to exceed four) until a sufficient program size was reached. In order to estimate the number of additional distance programs that this clause would generate, we determined the number of programs that generated fewer than 25 program completers in a given year that would, if aggregated across no more than four years, generate the required program size. In doing so, we identified a total of only 253 teacher preparation programs provided through distance education nationwide that had 25 or more program completers in a given year or, if aggregated across four years, would have at least 25 program completers.

Under proposed § 612.4(b)(4)(ii)(C), a State may use a combination of the two methods described above in order to meet the program size thresholds. For this estimate, the Department began by determining those programs that either did not have 25 program completers in a given year or would not generate 25 new teachers when aggregated across a number of years, not to exceed four. We then determined how many of the remaining programs could generate the required program size if aggregated with programs at the same institution with similar CIP codes (four digits) and with program completers aggregated across multiple years, not to exceed four. In using all of these combinations, the Department developed an estimate of 295 teacher preparation programs offered through distance education.

To provide upper-bound estimates of the burden these proposed distance education requirements would place on States, the Department used a different methodology to create proxy “programs”—groups of 25 program completers regardless of their actual course of study. First, the Department estimated the maximum number of “programs” on which a State would have to report if students at each institution were divided into the smallest possible programs that met the reporting thresholds (e.g., if there were 100 program completers from University A, then States would have to report on a maximum of four “programs” of 25 completers each). Using this method, the Department developed an upper bound estimate of 3,013 programs. Similarly, if the Department did not consider either institution- or program-level information and divided the total number of program completers for all programs nationally in which distance education was an option, the Department estimates a maximum number of programs on which States would be required to report of 3,266. Obviously, the Department believes that these represent extreme upper bounds, as State-, institution-, and program-level differentiation would stop such a high level of reporting from being required.

As stated above, because the proposed regulations would only require additional reporting insofar as students are new teachers certified in States other than the one in which the institution is located, the Department believes that 295 is a reasonable estimate for the total number of additional teacher preparation programs provided through distance education on which States will be required to report beyond the reporting included in our initial estimates contained in the December 2014 NPRM. However, to further capture the maximum increased burden associated with this estimate, the Department further determined the maximum number of reporting instances that these 295 programs could generate. If new teachers from these 295 programs were divided into as many groups of 25 new teachers as possible (thus mandating reporting by the State), we estimate that there would be as many as 812 reporting instances from these 295 programs. As such, in the estimates that follow, we will calculate burden based on 812 additional reports required by States.

Table 1—Estimates of the Number of Teacher Preparation Programs Provided Through Distance Education on Which Reporting Would Be Required Under § 612.4
| All completers from programs offered via distance | Total distance proxy ¹ | Out-of-state distance proxy ²
Program-dependent calculations ³
Programs with 25+ completers | 710 | 203 | 109
Programs with 25+ completers plus programs with 25+ completers in programs with similar CIP codes ⁴ | 860 | 250 | 134
Programs with 25+ completers plus programs with 25+ completers over 4 years ⁵ | 1,387 | 552 | 253
Programs with 25+ completers plus programs with 25+ completers over 4 years plus programs with 25+ completers across 4 years in programs with similar CIP codes | 1,501 | 654 | 295
Institution-dependent calculations
Dividing total number of completers across all programs into proxy “programs” of 25 | 3,013 | 1,118 | 727
Institution-independent calculations
Dividing all completers across all programs and institutions into proxy “programs” of 25 | 3,266 | 1,271 | 798
¹ The Department used the percentage of students across the institution as a whole enrolled exclusively via distance education as a proxy for the percentage of program completers in each program who were enrolled via distance education.
² The Department used the percentage of students across the institution as a whole enrolled via distance education in a State or jurisdiction other than the State or jurisdiction of the institution as a proxy for the percentage of program completers in each program who were enrolled via distance education.
³ For purposes of this table, a “program” is defined using a six-digit CIP code and award level at a particular institution of higher education.
⁴ The Department first determined programs with fewer than 25 program completers and then summed the completers across programs at the same institution with the same four-digit CIP code. This total was summed with the count in the “Programs with 25+ completers” row.
⁵ The Department first determined programs with fewer than 25 completers and then multiplied the number of completers by 4 to determine whether a four-year aggregation of data would generate a sufficient program size. This total was summed with the count in the “Programs with 25+ completers” row.

Institutional Report Card Reporting Requirements

The proposed regulations would require that each IHE that conducts a traditional teacher preparation program or alternative route to State certification or licensure program and enrolls students who receive title IV, HEA funds, report to the State on the quality of its program using an institutional report card (IRC) prescribed by the Secretary. While the proposed regulations would shift the data IHEs report from the institutional level to the program level, the IRC would continue to be compiled, reported, and posted by the IHE. Given that the proposed regulations would not change the IHEs that are subject to IRC reporting requirements, we do not believe that there would be any increased costs associated with these proposed regulations above those already included in our estimates. Regardless of whether individual programs are offered via distance or not, we assume that those programs are already included in IRCs. Rather, the impact of the proposed regulations will be to increase the burden on States to report on additional programs that are not located in their States, not to increase the number of programs on which institutions are required to report.

State Report Card Reporting Requirements

Section 205(b) of the HEA requires each State that receives funds under the HEA to report annually to the Secretary on the quality of teacher preparation in the State, both for traditional teacher preparation programs and for alternative routes to State certification or licensure programs, and to make this report available to the general public. In the cost estimates included in the December 3, 2014 NPRM, the Department assumed it would take the 50 States, the District of Columbia, and the Commonwealth of Puerto Rico, Guam, American Samoa, the United States Virgin Islands, the Commonwealth of the Northern Mariana Islands, and the Freely Associated States, which include the Republic of the Marshall Islands, the Federated States of Micronesia, and the Republic of Palau 235 hours each to report the required data under the SRC. We estimate that the 812 additional instances of reporting that States would be required to report on under these proposed regulations would result in an 8 hour increase in the time it would take to complete such reports at an annual cost of $12,170. This 8 hour estimate is based on an increase in the time to complete the SRC proportional to the increase in the number of programs on which States will be required to report.

In the original NPRM, the Department also estimated costs associated with States' providing assurances whether each teacher preparation program in the State either: (a) Is accredited by a specialized accrediting agency recognized by the Secretary for accreditation of professional teacher education programs, or (b) provides teacher candidates with content and pedagogical knowledge and quality clinical preparation, and has rigorous teacher candidate entry and exit standards. See proposed § 612.5(a)(4)(i) and (ii), respectively. Using data from the Council for Accreditation of Educator Preparation (CAEP), the Department estimated that States would have to provide the assurances described in proposed § 612.5(a)(4)(ii) for 10,716 programs based at IHEs nationwide in addition to 2,688 programs not associated with IHEs. For purposes of determining the impact that the inclusion of distance education programs would have on this cost, we assume that distance education programs are just as likely as other IHE-based programs to be located at an IHE with specialized accreditation. As such, we estimate that States will have to provide these assurances on 390 of the 812 reporting instances for a total cost of $20,110 (2 hours per reporting instance for 390 reporting instances at $25.78 per hour). Further, we estimate that the annual reporting burden associated with this provision would cost approximately $2,510 (0.25 hours per reporting instance for 390 reporting instances at $25.78 per hour).

States would also be required to annually report on their classification of teacher preparation programs. We estimate that the inclusion of distance education programs in such reporting would increase the cost to States of reporting the classification they had determined for each distance education program by $10,470 (0.5 hours per reporting instance for 812 reporting instances at $25.78 per hour). Additionally, in response to public comment, we have included an additional item of cost in its estimates of the burden associated with the SRCs under the proposed regulations. The Department's estimates now include one hour per program annually for teacher preparation programs to review and verify the data that States will use for accountability purposes. We estimate that this review and verification for distance education programs will increase costs by $20,930 (1 hour per reporting instance for 812 reporting instances at $25.78 per hour).

The Department does not estimate any increase in costs (above those outlined in the December 2014 NPRM) associated with other elements of our initial estimates of the costs of the SRC related to the inclusion of distance education programs as all other estimated costs were flat costs associated with Statewide activities regardless of the number of programs being reported on.

Reporting Student Learning Outcomes

The Department's original estimates calculated the burden associated with reporting on student learning outcomes at the program level. We estimate that such reporting would take approximately 2.5 hours per program per State for a total additional annual cost of $52,330 to report on distance education programs.

Reporting Employment Outcomes

In the December 2014 NPRM, we also estimated costs associated with reporting employment outcomes at the program level. Assuming that such reporting would take 3.5 hours per program for 812 reporting instances, we estimate that such reporting would cost approximately $73,270.

Reporting Survey Results

Our December 2014 NPRM also proposed that States annually report on the results of teacher and employer surveys. At 1 hour per program, we estimate that such reporting on the 812 reporting instances would cost approximately $20,930 per year.

Reporting on Other Indicators

In the original NPRM, the Department did not account for costs associated with reporting on other indicators that the State may use to assess a program's performance beyond those that would be required by the proposed regulations. Our revised estimates include such costs. We now assume that such reporting will take, on average, 1 hour per program for an annual cost of approximately $20,930 for reporting on distance education programs.

We do not estimate that any other elements of our initial cost estimates not outlined above will increase as a result of these supplemental proposed regulations.

Accounting Statement

In the following table, we have prepared an accounting statement showing the classification of the expenditures associated with the provisions of these proposed regulations. This table provides our best estimate of the changes in annual monetized costs, benefits, and transfers as a result of the proposed regulations.

Table 2—Accounting Statement
Category | Benefits
Better and more publicly available information on the effectiveness of teacher preparation programs | Not Quantified
Distribution of TEACH Grants to better performing programs | Not Quantified
Category | Costs
| 7% | 3%
Institutional Report Card (set-up, annual reporting, posting on website) | $0 | $0
State Report Card (Statutory requirements: Annual reporting, posting on website; Regulatory requirements: Meaningful differentiation, consulting with stakeholders, aggregation of small programs, assurance of accreditation, other annual reporting costs) | 66,190 | 66,190
Reporting Student Learning Outcomes (develop model to link aggregate data on student achievement to teacher preparation programs, modifications to student growth models for non-tested grades and subjects, and measuring student growth) | 52,330 | 52,330
Reporting Employment Outcomes (placement and retention data collection directly from IHEs or LEAs) | 73,270 | 73,270
Reporting Survey Results (developing survey instruments, annual administration, and response costs) | 20,930 | 20,930
Reporting other indicators | 20,930 | 20,930
Identifying TEACH Grant-eligible Institutions | 0 | 0
Category | Transfers
Reduced costs to the Federal government from TEACH Grants to prospective students at teacher preparation programs found ineligible | $0 | $0

Paperwork Reduction Act of 1965

As part of its continuing effort to reduce paperwork and respondent burden, the Department provides the general public and Federal agencies with an opportunity to comment on proposed and continuing collections of information in accordance with the Paperwork Reduction Act of 1995 (PRA) (44 U.S.C. 3506(c)(2)(A)). This helps ensure that: the public understands the Department's collection instructions, respondents can provide the requested data in the desired format, reporting burden (time and financial resources) is minimized, collection instruments are clearly understood, and the Department can properly assess the impact of collection requirements on respondents.

Sections 612.3, 612.4, 612.5, 612.6, 612.7, 612.8, and 686.2 contain information collection requirements. Under the PRA, the Department has submitted a copy of these sections to OMB for its review. A Federal agency may not conduct or sponsor a collection of information unless OMB approves the collection under the PRA and the corresponding information collection instrument displays a currently valid OMB control number.

Notwithstanding any other provision of law, no person is required to comply with, or is subject to penalty for failure to comply with, a collection of information if the collection instrument does not display a currently valid OMB control number.

In the final regulations, we will display the control numbers assigned by OMB to any information collection requirements proposed in this NPRM and adopted in the final regulations.

Start-Up and Annual Reporting Burden

These proposed regulations execute a statutory requirement that IHEs and States establish an information and accountability system through which IHEs and States report on the performance of their teacher preparation programs. Parts of the proposed regulations in the original NPRM would require IHEs and States to establish or scale up certain systems and processes in order to collect information necessary for annual reporting. As such, IHEs and States may incur one-time start-up costs for developing those systems and processes associated with those proposed regulations. However, nothing in the proposed regulations in this supplemental NPRM would institute any such new requirements beyond those already contemplated in the original NPRM. We therefore do not report any start-up burdens associate with these proposed regulations.

Section 612.4—Reporting Requirements for the State Report Card

As outlined in the “Discussion of Costs, Benefits, and Transfers” section of this supplemental NPRM, the Department estimates that the inclusion of reporting on distance education programs in SRCs under § 612.4(a) will increase the reporting burden on States by approximately 8 hours each, for a total burden increase of 472 hours.

Under the proposed regulations, States would be required to classify teacher preparation programs each year. We estimate that such classification, using already-gathered indicator data and existing program classification methodologies would take approximately 0.5 hours per program. Applying such estimates to the 812 distance education programs, the total burden associated with classification of distance education programs would be 406 hours (812 programs multiplied by 0.5 hours per program). Aggregating the burdens calculated above, the Department estimates the total annual burden associated with these proposed rules under proposed § 612.4 to be 878 hours.

Section 612.5—Indicators a State Must Use To Report on Teacher Preparation Program Performance

The Department estimates that each State will require approximately 2.5 hours per program to gather and report data on student learning outcomes for distance education programs, for a total burden of 2,030 hours.

The Department estimates that each State will require 3.5 hours to compile, calculate, and transmit data on the employment outcomes of recent graduates of distance education programs, for a burden of 2,842 hours.

The Department estimates that each State will require 1 hour to report the results of their surveys of new teachers and their employers, for a total burden of 812 hours.

States would also be required to report on whether programs that do not have specialized accreditation meet certain program characteristics. The Department believes that it will take approximately 2 hours per program for a State to make such determinations and an additional 0.25 hours to report on such findings. As discussed in this Supplemental NPRM, the Department estimates that States will only have to do such reviews for 390 distance education programs, for a total of 878 hours.

The Department also estimates that each distance education program will require approximately 1 hour to review and verify State data regarding their program's performance, for a total of 812 hours.

Aggregating the calculated burdens in this section, the Department estimates that these proposed regulations will increase the calculated reporting burden associated with § 612.5 by 7,374 hours.

Total Reporting Burden Under Part 612

Aggregating the total burdens calculated under the preceding sections of part 612 results in the following burdens: total burden incurred under § 612.4 is 878 hours and under § 612.5 is 7,374 hours. This totals 8,252 hours nationwide.

We have prepared an Information Collection Request (ICR) for OMB collection 1840-0744. If you want to review and comment on the ICR [ICRs], please follow the instructions in the ADDRESSES section of this supplemental NPRM.

Note: The Office of Information and Regulatory Affairs in the Office of Management and Budget (OMB), and the Department of Education review all comments posted at www.regulations.gov.

In preparing your comments you may want to review the ICR, which is available at www.regulations.gov by using the Docket ID number specified in this supplemental NPRM and for which the comment period will run concurrently with the comment period of the NPRM.

We consider your comments on these proposed collections of information in—

• Deciding whether the proposed collections are necessary for the proper performance of our functions, including whether the information will have practical use;

• Evaluating the accuracy of our estimate of the burden of the proposed collections, including the validity of our methodology and assumptions;

• Enhancing the quality, usefulness, and clarity of the information we collect; and

• Minimizing the burden on those who must respond.

This includes exploring the use of appropriate automated, electronic, mechanical, or other technological collection techniques.

OMB is required to make a decision concerning the collections of information contained in these proposed regulations between 30 and 60 days after publication of this document in the Federal Register. Therefore, to ensure that OMB gives your comments full consideration, it is important that OMB receives your comments by May 2, 2016. This does not affect the deadline for your comments to us on the proposed regulations.

Intergovernmental Review

These programs are subject to Executive Order 12372 and the regulations in 34 CFR part 79. One of the objectives of the Executive order is to foster an intergovernmental partnership and a strengthened federalism. The Executive order relies on processes developed by State and local governments for coordination and review of proposed Federal financial assistance.

This document provides early notification of our specific plans and actions for these programs.

Assessment of Educational Impact

In accordance with section 411 of the General Education Provisions Act, 20 U.S.C. 1221e-4, the Secretary particularly requests comments on whether these proposed regulations would require transmission of information that any other agency or authority of the United States gathers or makes available.

Federalism

Executive Order 13132 requires us to ensure meaningful and timely input by State and local elected officials in the development of regulatory policies that have federalism implications. “Federalism implications” means substantial direct effects on the States, on the relationship between the National Government and the States, or on the distribution of power and responsibilities among the various levels of government. The proposed regulations in § 612.4 may have federalism implications, as defined in Executive Order 13132. We encourage State and local elected officials and others to review and provide comments on these proposed regulations.

Accessible Format: Individuals with disabilities can obtain this document in an accessible format (e.g., braille, large print, audiotape, or compact disc) on request to the person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

(Catalog of Federal Domestic Assistance Number does not apply.)

List of Subjects

34 CFR Part 612

Administrative practice and procedure, Colleges and universities, Education, Elementary and secondary education, Grant programs—education, Reporting and recordkeeping requirements, Student aid.

34 CFR Part 686

Administrative practice and procedure, Colleges and universities, Education, Elementary and secondary education, Grant programs—education, Reporting and recordkeeping requirements, Student aid.

Dated: March 28, 2016.
John B. King, Jr.,
Secretary of Education.

For the reasons discussed in the preamble, the Secretary proposes to amend 34 CFR part 612, as proposed to be added at 79 FR 71885, December 3, 2014, and part 686, as proposed to be amended at 79 FR 71889, December 3, 2014, as follows:

PART 612—TITLE II REPORTING SYSTEM

1. The authority citation for part 612 continues to read as follows:

Authority: 20 U.S.C. 1022d, unless otherwise noted.

2. Section 612.4 is amended by:

A. In paragraph (a)(1)(i), removing the words “including distance education programs” that appear after the punctuation “,”;

B. Redesignating paragraph (a)(1)(ii) as paragraph (a)(1)(iii); and

C. Adding new paragraph (a)(1)(ii).

The addition reads as follows:

§ 612.4 What are the regulatory reporting requirements for the State Report Card?

(a) * * *

(1) * * *

(ii) The quality of all teacher preparation programs provided through distance education in the State, using procedures for reporting that are consistent with paragraph (b)(4) of this section, but based on whether the program produces at least 25 or fewer than 25 new teachers whom the State certified to teach in a given reporting year; and

* * * * *

PART 686—TEACHER EDUCATION ASSISTANCE FOR COLLEGE AND HIGHER EDUCATION (TEACH) GRANT PROGRAM

3. The authority citation for part 686 continues to read as follows:

Authority: 20 U.S.C. 1070g, et seq., unless otherwise noted.

4. Section 686.2 is amended by:

A. Adding in alphabetical order a definition of “High-quality teacher preparation program provided through distance education” to paragraph (e);

B. Revising the proposed definition of “TEACH Grant-eligible institution” in paragraph (e); and

C. Revising the proposed definition of “TEACH Grant-eligible program” in paragraph (e).

The additions and revisions read as follows:

§ 686.2 Definitions.

* * * * *

(e) * * *

High-quality teacher preparation program provided through distance education: A teacher preparation program provided through distance education that—

(i) For TEACH Grant program purposes in the 2021-2022 Title IV HEA award year, is not classified by any State as low-performing or at-risk of being low-performing under 34 CFR 612.4(b) in either or both the April 2020 and/or April 2021 State Report Cards, and for TEACH Grant program purposes in the 2022-2023 Title IV HEA award year and subsequent award years, is not classified by any State as low-performing or at-risk of being low-performing under 34 CFR 612.4(b), beginning with the April 2020 State Report Card, for two out of the previous three years; or

(ii) Meets the exception from State reporting of teacher preparation program performance under 34 CFR 612.4(b)(4)(ii)(D) or (E).

* * * * *

TEACH Grant-eligible institution: An eligible institution as defined in 34 CFR part 600 that meets financial responsibility standards established in 34 CFR part 668, subpart L, or that qualifies under an alternative standard in 34 CFR 668.175 and provides—

(i) At least one high-quality teacher preparation program or high-quality teacher preparation program provided through distance education at the baccalaureate or master's degree level that also provides supervision and support services to teachers, or assists in the provision of services to teachers, such as—

(A) Identifying and making available information on effective teaching skills or strategies;

(B) Identifying and making available information on effective practices in the supervision and coaching of novice teachers; and

(C) Mentoring focused on developing effective teaching skills and strategies;

(ii) A two-year program that is acceptable for full credit in a TEACH Grant-eligible program or a TEACH Grant-eligible STEM program offered by an institution described in paragraph (i) of this definition or a TEACH Grant-eligible STEM program offered by an institution described in paragraph (iii) of this definition, as demonstrated by the institution that provides the two year program;

(iii) A TEACH Grant-eligible STEM program and has entered into an agreement with an institution described in paragraph (i) or (iv) of this definition to provide courses necessary for its students to begin a career in teaching; or

(iv) A high-quality teacher preparation program or high-quality teacher preparation program provided through distance education that is a post-baccalaureate program of study.

TEACH Grant-eligible program: An eligible program, as defined in 34 CFR 668.8, that meets paragraph (i) of the definition of “high-quality teacher preparation program” or the definition of “high-quality teacher preparation program provided through distance education” and that is designed to prepare an individual to teach as a highly-qualified teacher in a high-need field and leads to a baccalaureate or master's degree, or is a post-baccalaureate program of study. A two-year program of study that is acceptable for full credit toward a baccalaureate degree in a high-quality teacher preparation program or a high-quality teacher preparation program provided through distance education is considered to be a program of study that leads to a baccalaureate degree.

* * * * *

[FR Doc. 2016-07354 Filed 3-31-16; 8:45 am]

BILLING CODE 4000-01-P